DEPARTMENT OF LABOR

Employment and Training Administration

Comment Request for Information Collection for Evaluation of the Technology-Based Learning Grants: New Collection

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning a new data collection effort for the Technology-Based Learning Grants Evaluation.

A copy of the proposed information collection request (ICR) can be obtained by contacting the office listed below in the addressee section of this notice.

DATES: Written comments must be submitted to the office listed in the addressee's section below on or before May 18, 2010.

ADDRESSES: Submit written comments to Jonathan Simonetta, Room N-5641, Employment and Training Administration, 200 Constitution Avenue, NW., Washington, DC 20210. Telephone number: 202-693-3911 (this is not a toll-free number). Fax: 202-693-2766. E-mail: Simonetta.jonathan@dol.gov.

SUPPLEMENTARY INFORMATION:

I. Background

The Evaluation of the Technology-Based Learning (TBL) Grants is a two-year evaluation of grantees funded under the Employment and Training Administration's (ETA) TBL Initiative (73 FR 35155 (June 20, 2008)) to implement TBL programs that increase worker access to training in a timely and effective manner, while simultaneously stimulating the development of new and innovative models and uses for TBL in the public workforce system. The evaluation will document and assess learners' experiences and outcomes related to participating in such a program, and the implications for the public workforce system.

As a key part of the TBL evaluation, ETA's contractor will collect administrative data from grantees and administer a customer survey. The customer survey will provide information on customer satisfaction and participant outcomes, and thus inform future TBL projects. Since grantees are presently reporting only limited data about TBL participants to ETA, reasons for participation, challenges to participation, other workforce services received, and, of particular importance, satisfaction with TBL training and services would not otherwise be available in the absence of the survey. Thus, in order to more thoroughly evaluate the TBL program, participation, outcomes and satisfaction data will be gathered from both the limited administrative data and the customer survey.

The survey will be conducted online and will provide basic demographic, programmatic, and outcome information on participants in TBL programs, and supply participants' contact information for survey administration.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: New collection.

Title: Evaluation of the Technology-Based Learning Grants.

OMB Number: 1205-0NEW.

Affected Public: Individuals.

Form(s): n/a.

Total Respondents: 1,500.

Frequency: One-time survey.

Total Responses: 1,050.

Average Time per Response: 20 minutes.

Estimated Total Burden Hours: 350 (see table 1, below).

Total Burden Cost for Respondents: $17,991.

Table 1—Estimated Burden Hours
Activity | Sample size | Response rate | Number of respondents | Frequency | Time per response (minutes) | Total burden hours
Monthly Administrative Data Requests |  |  | 20 | 7 | 120 | 280
Final Administrative Data Request |  |  | 20 | Once | 240 | 80
Customer Survey | 1,500 | 70% | 1,050 | Once | 20 | 350

Comments submitted in response to this comment request will be summarized and/or included in the request for Office of Management and Budget approval of the information collection request; they will also become a matter of public record.

Dated: March 15, 2010.
Jane Oates,
Assistant Secretary, Employment and Training Administration.

[FR Doc. 2010-6026 Filed 3-18-10; 8:45 am]

BILLING CODE 4510-FN-P